DEPARTMENT OF TRANSPORTATION

Federal Aviation Administration

14 CFR Part 23

[Docket No. FAA-2017-0704; Special Conditions No. 23-284-SC]

Special Conditions: Pilatus Aircraft Ltd., PC-24; Pressure Defuel System

AGENCY: Federal Aviation Administration (FAA), DOT.

ACTION: Final special conditions; request for comments.

SUMMARY: These special conditions are issued for the Pilatus Aircraft Ltd. model PC-24 airplane. This airplane will have a novel or unusual design feature associated with installation of a pressure fueling system with defuel capability. The applicable airworthiness regulations do not contain adequate or appropriate safety standards for this design feature. These special conditions contain the additional safety standards the Administrator considers necessary to establish a level of safety equivalent to that established by the existing airworthiness standards.

DATES: These special conditions are effective July 17, 2017, and are applicable July 6, 2017.

ADDRESSES: Send comments identified by docket number FAA-2017-0704 using any of the following methods:

□ Federal eRegulations Portal: Go to http://www.regulations.gov and follow the online instructions for sending your comments electronically.

□ Mail: Send comments to Docket Operations, M-30, U.S. Department of Transportation (DOT), 1200 New Jersey Avenue SE., Room W12-140, West Building Ground Floor, Washington, DC 20590-0001.

□ Hand Delivery of Courier: Take comments to Docket Operations in Room W12-140 of the West Building Ground Floor at 1200 New Jersey Avenue SE., Washington, DC, between 9 a.m., and 5 p.m., Monday through Friday, except Federal holidays.

□ Fax: Fax comments to Docket Operations at 202-493-2251.

Privacy: The FAA will post all comments it receives, without change, to http://regulations.gov, including any personal information the commenter provides. Using the search function of the docket Web site, anyone can find and read the electronic form of all comments received into any FAA docket, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or go to the Docket Operations in Room W12-140 of the West Building Ground Floor at 1200 New Jersey Avenue SE., Washington, DC, between 9 a.m., and 5 p.m., Monday through Friday, except Federal holidays.

FOR FURTHER INFORMATION CONTACT: Jeff Pretz, ACE-111, Federal Aviation Administration, Small Airplane Directorate, Aircraft Certification Service, 901 Locust Street, Kansas City, MO 64106; telephone (816) 329-3239; facsimile (816) 329-4090.

SUPPLEMENTARY INFORMATION: The FAA has determined, in accordance with 5 U.S.C. 553(b)(3)(B) and 553(d)(3), that notice and opportunity for prior public comment hereon are unnecessary because the substance of these special conditions has been subject to the public comment process in several prior instances with no substantive comments received. The FAA therefore finds that good cause exists for making these special conditions effective upon issuance.

Special condition number ² | Company/airplane model
23-98-03-SC | Raytheon Aircraft Company/Model 3000.
23-110-SC | Ayers Corporation/Model LM200.
23-234-SC | Cessna Aircraft Company/Model 525C.

Comments Invited

² See http://rgl.faa.gov/ to review the listed special conditions.

We invite interested people to take part in this rulemaking by sending written comments, data, or views. The most helpful comments reference a specific portion of the special conditions, explain the reason for any recommended change, and include supporting data. We ask that you send us two copies of written comments.

We will consider all comments we receive on or before the closing date for comments. We will consider comments filed late if it is possible to do so without incurring expense or delay. We may change these special conditions based on the comments we receive.

Background

On July 9, 2012, Pilatus Aircraft Ltd. applied for a type certificate for their new PC-24 airplane. The PC-24 is an aluminum pressurized low-wing business jet with a T-tail configuration and retractable undercarriage designed to meet the commuter category requirements of part 23. Two Williams International FJ44-4A Turbofan engines rated at 3,400 pounds (lbs.) of take-off thrust, situated in nacelles on each side of the rear fuselage power the PC-24. The PC-24 will have a Maximum Take-off Weight (MTOW) of 17,200 pounds (7,802 kilograms). It has a maximum seating capacity of up to ten passengers and one pilot or two pilots. The airplane will be certificated for day and night Visual Flight Rules, Instrument Flight Rules, and flight into known icing.

The PC-24 is equipped with a pressure refuel/defuel system. The applicable regulations do not include requirements for the pressure-defueling portion of the system.

Type Certification Basis

Under the provisions of 14 CFR 21.17, Pilatus Aircraft Ltd. must show that the PC-24 meets the applicable provisions of 14 CFR part 23, as amended by amendments 23-1 through 23-62 thereto.

If the Administrator finds that the applicable airworthiness regulations (i.e., 14 CFR part 23) do not contain adequate or appropriate safety standards for the PC-24 because of a novel or unusual design feature, special conditions are prescribed under the provisions of § 21.16.

In addition to the applicable airworthiness regulations and special conditions, the PC-24 must comply with the fuel vent and exhaust emission requirements of 14 CFR part 34, the noise certification requirements of 14 CFR part 36, and the FAA must issue a finding of regulatory adequacy pursuant to section 611 of Public Law 92-574, the “Noise Control Act of 1972.”

The FAA issues special conditions, as defined in § 11.19, under § 11.38 and they become part of the type certification basis under § 21.17(a)(2).

Special conditions are initially applicable to the model for which they are issued. Should the type certificate for that model be amended later to include any other model that incorporates the same novel or unusual design feature, the FAA would apply these special conditions to the other models under § 21.101.

Novel or Unusual Design Features

The PC-24 will incorporate the following novel or unusual design features:

Pressure Fueling System with Defuel Capability

Discussion

As discussed in the “Background” section, the PC-24 will incorporate a pressure refuel/defuel system. The defueling capability is considered a novel design for this type of airplane. The applicable airworthiness regulations do not contain adequate or appropriate safety standards for this design feature. Mandating additional requirements by adopting 14 CFR 25.979(e)—which is the part 25 pressure defuel requirement—mitigates the concern associated with installation of a pressure defueling system.

Applicability

As discussed above, these special conditions are applicable to the PC-24. Should Pilatus Aircraft Ltd. apply at a later date for a change to the type certificate to include another model on the same type certificate incorporating the same novel or unusual design feature, the FAA would apply these special conditions to that model as well.

Conclusion

This action affects only certain novel or unusual design features on one model of airplanes. It is not a rule of general applicability and it affects only the applicant who applied to the FAA for approval of these features on the airplane.

The substance of these special conditions has been subjected to the notice and comments period in several prior instances—identified above—and has been derived without substantive change from those previously issued. It is unlikely that prior public comment would result in a significant change from the substance contained herein. Therefore, notice and opportunity for prior public comments hereon are unnecessary and the FAA finds good cause, in accordance with 5 U.S.C. 553(b)(3)(B) and 553(d)(3), making these special conditions effective upon issuance. The FAA is requesting comments to allow interested persons to submit views that may not have been submitted in response to the prior opportunities for comment described above.

List of Subjects in 14 CFR Part 23

Aircraft, Aviation safety, Signs and symbols.

Citation

The authority citation for these special conditions is as follows:

Authority: 49 U.S.C. 106(f), 106(g), 40113 and 44701; 14 CFR 21.16; and 14 CFR 11.38 and 11.19.

The Special Conditions

Accordingly, pursuant to the authority delegated to me by the Administrator, the following special conditions are issued as part of the type certification basis for Pilatus Aircraft Ltd. PC-24 airplanes.

1. Pressure Fueling System

For pressure fueling systems, in addition to § 23.979, the following applies:

The airplane defueling system—not including fuel tanks and fuel tank vents—must withstand an ultimate load that is 2.0 times the load arising from the maximum permissible defueling pressure—positive or negative—at the airplane fueling connection.

Issued in Kansas City, Missouri, on July 6, 2017.
Kelly Broadway,
Acting Manager, Small Airplane Directorate, Aircraft Certification Service.

[FR Doc. 2017-14937 Filed 7-14-17; 8:45 am]

BILLING CODE 4910-13-P